DEPARTMENT OF ENERGY

Federal Energy Regulatory Commission

[Project No. P-2376-052]

Eagle Creek Reusens Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2376-052.

c. Date Filed: February 28, 2022.

d. Applicant: Eagle Creek Reusens Hydro, LLC (Reusens Hydro).

e. Name of Project: Reusens Hydroelectric Project (Reusens Project).

f. Location: The project is located on the James River in Bedford and Amherst Counties, Virginia. The project does not occupy any federal land.

g. Filed Pursuant to: Federal Power Act, 16 U.S.C. 791(a)-825(r).

h. Applicant Contacts: Ms. Joyce Foster, Director, Licensing and Compliance Eagle Creek Renewable Energy, LLC, 7315 Wisconsin Avenue, Suite 1100W, Bethesda, MD 20814; Phone at (804) 338-5110 or email at Joyce.Foster@eaglecreekre.co; and Ms. Jody Smet, Vice President, Regulatory Affairs, Eagle Creek Renewable Energy, LLC, 7315 Wisconsin Ave., Suite 1100W, Bethesda, MD 20814; Phone at (240) 482-2700 or email at jody.smet@eaglecreekre.com.

i. FERC Contact: Laurie Bauer at (202) 502-6519, or laurie.bauer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 29, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Reusens Project (P-2376-052).

m. This application is not ready for environmental analysis at this time.

n. The Reusens Project consists of: (1) A 24-foot-high, 416-foot-long concrete dam and spillway containing eight 16.75-foot-high, 44-foot-wide floodgates; (2) a 25-foot-high concrete curved auxiliary spillway; (3) a 500-acre impoundment with a gross storage capacity of 6,869 acre-feet at the normal pool elevation of 550.7 feet National Geodetic Vertical Datum of 1929; (4) an intake sction of Powerhouse A containing three 6.83-foot-wide, 17.92-foot-high steel, concrete, and timber gates and Powerhouse B containing two 6.67-foot-wide, 17.5-foot-high timber gates; (5) a 105.5-foot-long, 83-foot-wide, 86-foot-high steel frame, concrete and brick Powerhouse A containing three vertical Francis turbine-generator units with a total installed capacity of 7.5 megawatts (MW); (5) a 55-foot-long, 27-foot-wide, 84-foot-high steel frame, concrete and brick Powerhouse B containing two vertical Francis turbine-generator units with a total installed capacity of 5 MW; (6) a 100-foot-wide, 250-foot-long tailrace below Powerhouse A; (7) a 60-foot-wide, 50-foot-long tailrace below Powerhouse B; (8) a 280-foot-long transmission line to three 5,210 kilovolt-ampere 4/34.5 kilovolt step-up transformers which are connected to the grid via a 24-foot-long overhead line; and (9) appurtenant facilities.

The Reusens Project operates in a peaking mode with an average annual generation of 22,504 megawatt-hours between 2018 and 2021.

o. A copy of the application can be viewed on the Commission's website at http://www.ferc.gov, using the “eLibrary” link. Enter the docket number, excluding the last three digits in the docket number field, to access the document (P-2376). For assistance, contact FERC at FERCOnlineSupport@ferc.gov, or call toll-free, (866) 208-3676 or (202) 502-8659 (TTY).

You may also register online at http://www.ferc.gov/docs-filing/esubscription.asp to be notified via email of new filings and issuances related to this or other pending projects. For assistance, contact FERC Online Support.

p. Procedural schedule: The application will be processed according to the following preliminary schedule. Revisions to the schedule will be made as appropriate.

Issue Deficiency Letter (if necessary)—April 2022

Request Additional Information—April 2022

Issue Acceptance Letter—July 2022

Issue Scoping Document 1 for comments—August 2022

Request Additional Information (if necessary)—September 2022

Issue Scoping Document 2—November 2022

Issue Notice of Ready for Environmental Analysis—November 2022

Final amendments to the application must be filed with the Commission no later than 30 days from the issuance date of the notice of ready for environmental analysis.

Dated: March 10, 2022.
Debbie-Anne A. Reese,
Deputy Secretary.

[FR Doc. 2022-05580 Filed 3-16-22; 8:45 am]

BILLING CODE 6717-01-P